DEPARTMENT OF TRANSPORTATION

Office of the Secretary

Notice of Request for Renewal of a Previously Approved Collection

AGENCY: Office of the Secretary, DOT.

ACTION: Notice; correction.

SUMMARY: The Office of Drug and Alcohol Policy and Compliance published a document in the Federal Register on August 4, 2006, concerning a request for an extension of a previously approved information collection. We are correcting the document as set forth below. Also, in accordance with the Paperwork Reduction Act of 1995 (44 U.S.C. Chapter 35, as amended), this notice announces that the Information Collection Request (ICR) abstracted below which will be forwarded to the Office of Management and Budget (OMB) for renewal. The ICR describes the nature of the information collection and its expected burden. The Federal Register Notice with a 60-day comment period soliciting comments on the following collection of information was published on August 4, 2006 (71 FR 44345). No comments were received.

DATES: Comments on this notice must be received by March 23, 2007 and sent to the attention of the DOT/OST Desk Officer, Office of Information and Regulatory Affairs, Office of Management and Budget, Docket library, Room 10102, 725 17th Street, NW., Washington, DC 20503 or oira_submission@omb.eop.gov (e-mail).

FOR FURTHER INFORMATION CONTACT: Bohdan Baczara, Office of Drug and Alcohol Policy and Compliance, 400 Seventh Street, SW., Washington, DC 20590; 202-366-3784 (voice), 202-366-3897 (fax), or bohdan.baczara@dot.gov (e-mail).

Correction

In the August 4, 2006, Federal Register [71 FR 44345] correct the Estimated Number of Respondents and Estimated Total Number Burden on Respondents.

SUPPLEMENTARY INFORMATION: Title: Procedures for Transportation Drug and Alcohol Testing Program.

OMB Control Number: 2105-0529.

Affected Entities: Transportation Industry (i.e., Federal Aviation Administration, Federal Transit Administration, Federal Railroad Administration, Federal Motor Carrier Safety Administration and the Pipeline and Hazardous Materials Safety Administration) and the United States Coast Guard when calculating their random testing rates.

Frequency of Response: Once a year.

Number of Respondents: 2,783,195.

Annual Estimated Burden Hours on Respondents: 695,300.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issues in Washington, DC on February 6, 2007.
Patricia Lawton,
IT Investment Management Office, Department of Transportation.

[FR Doc. 07-600 Filed 2-20-07; 8:45 am]

BILLING CODE 4910-62-P